INTERNATIONAL TRADE COMMISSION

[Inv. No. 337-TA-499]

Certain Audio Digital-to-Analog Converters and Products Containing Same; Notice of Commission Decision Not To Review an Initial Determination Terminating the Investigation as to Claims 1 and 2 of U.S. Patent No. 6,492,928

AGENCY: U.S. International Trade Commission.

ACTION: Notice.

SUMMARY: Notice is hereby given that the U.S. International Trade Commission has determined not to review the presiding administrative law judge's (“ALJ's”) initial determination (“ID”) (Order No. 16) terminating the above-captioned investigation as to claims 1 and 2 of U.S. Patent No. 6,492,928 (“the “928 patent”).

FOR FURTHER INFORMATION CONTACT: Clara Kuehn, Esq., Office of the General Counsel, U.S. International Trade Commission, 500 E Street, SW., Washington, DC 20436, telephone (202) 205-3012. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on November 14, 2003, based on a complaint filed on behalf of Cirrus Logic, Inc. of Austin, Texas (“complainant”). 68 FR 64,641 (Nov. 14, 2003). The complaint, as supplemented, alleged violations of section 337 of the Tariff Act of 1930 in the importation into the United States, sale for importation, and sale within the United States after importation of certain audio digital-to-analog converters and products containing same by reason of infringement of claims 1 and 11 of the ‘928 patent. The notice of investigation named two respondents: Wolfson Microelectronics, PLC of Edinburgh, United Kingdom; and Wolfson Microelectronics, Inc. of San Diego, Calif. 68 FR 64,641 (Nov. 14, 2003).

On December 29, 2003, the ALJ issued an ID (Order No. 5) granting complainant's motion to amend the complaint and notice of investigation to add allegations of infringement of claims 2, 3, 5, 6, and 15 of the ‘928 patent, and of claims 9, 12, and 19 of U.S. Patent No. 6,011,501. That ID was not reviewed by the Commission. 69 FR 4177 (Jan. 28, 2004).

On June 30, 2004, complainant filed an unopposed motion to terminate the investigation in part as to allegations of infringement of claims 1 and 2 of the ‘928 patent based on the withdrawal of the allegations.

On July 1, 2004, the ALJ issued the subject ID (Order No. 16) granting complainant's motion to terminate the investigation as to claims 1 and 2 of the ‘928 patent. No party petitioned for review of the ID.

The authority for the Commission's determination is contained in section 337 of the Tariff Act of 1930, as amended (19 U.S.C. 1337), and in section 210.42 of the Commission's Rules of Practice and Procedure (19 CFR 210.42).

Issued: July 22, 2004.
By order of the Commission.
Marilyn R. Abbott,
Secretary to the Commission.

[FR Doc. 04-17172 Filed 7-27-04; 8:45 am]

BILLING CODE 7020-02-P